DEPARTMENT OF TRANSPORTATION

Pipeline and Hazardous Materials Safety Administration

[Docket: PHMSA-2009-0057]

Pipeline Safety: Agency Information Collection Activities: Notice of Request for Extension of Currently Approved Information Collections

AGENCY: Pipeline and Hazardous Materials Safety Administration (PHMSA), U.S. Department of Transportation (DOT).

ACTION: Notice and request for comments.

SUMMARY: In compliance with the Paperwork Reduction Act of 1995 (PRA), this notice announces that the Information Collection Requests (ICRs) abstracted below will be forwarded to the Office of Management and Budget (OMB) for review and comments. The ICRs describe the nature of the information collections and their expected burden. A Federal Register Notice with a 60-day comment period soliciting comments on ICRs was published in the Federal Register on February 20, 2009 (73 FR 7955) under Docket No. PHMSA-2009-0057. Two comments were received. The purpose of this notice is to allow the public an additional 30 days to submit comments on the information collections described below and respond to comments submitted to the 60-day notice.

DATES: Interested persons are invited to submit comments on or before May 29, 2009.

ADDRESSES: Send comments directly to the Office of Management and Budget, Office of Information and Regulatory Affairs, Attn: Desk Officer for the Department of Transportation, 725 17th Street, NW., Washington, DC 20503.

FOR FURTHER INFORMATION CONTACT: Cameron Satterthwaite at (202) 366-1319, or by e-mail at cameron.satterthwaite@dot.gov.

SUPPLEMENTARY INFORMATION: Section 1320.8(d), Title 5, Code of Federal Regulations requires Federal agencies to provide interested members of the public and affected agencies an opportunity to comment on information collection and recordkeeping requests. This notice identifies information collection requests that PHMSA will be submitting to OMB for renewal and extension. These information collections are contained in the pipeline safety regulations, 49 CFR parts 190-199.

PHMSA received two comments on information collection OMB Control No. 2137-0610, entitled “Pipeline Integrity Management in High Consequence Areas Gas Transmission Pipeline Operators,” from Southwest Gas Corporation (Southwest) and Paiute Pipeline Company (Paiute). Southwest and Paiute both commented that the burden hour estimate was low and further requested PHMSA to convene a workshop to explore the burden hours estimate, including improvements that could be made. PHMSA will consider these comments and make efforts to pursue methods of addressing Southwest's and Paiute's concerns prior to the next renewal period. However, at this time PHMSA is forwarding this information collection request to OMB as this information collection will expire May 31, 2009.

PHMSA has revised burden estimates, where appropriate, to reflect current reporting levels or adjustments based on changes in proposed or final rules published since the information collections were last approved. The following information is provided for each information collection: (1) Title of the information collection; (2) OMB control number; (3) type of request; (4) abstract of the information collection activity; (5) description of affected public; (6) estimate of total annual reporting and recordkeeping burden; and (7) frequency of collection. PHMSA will request a three-year term of approval for each information collection activity.

PHMSA requests comments on the following information collections:

Title: Pipeline Safety: Response Plans for Onshore Oil Pipelines.

OMB Control Number: 2137-0589.

Type of Request: Renewal of a currently approved information collection.

Abstract: 49 CFR part 194 requires an operator of an onshore oil pipeline facility to prepare and submit an oil spill response plan to PHMSA for review and approval.

Estimated number of respondents: 367.

Estimated annual burden hours: 50,186 hours.

Frequency of collection: On occasion.

Title: Pipeline Safety: Pipeline Integrity Management in High Consequence Areas Gas Transmission Pipeline Operators.

OMB Control Number: 2137-0610.

Type of Request: Renewal of a currently approved information collection.

Abstract: 49 CFR 192.947 requires operators of gas transmission pipelines located in or near high consequence areas to maintain a written integrity management program and records showing compliance with 49 CFR part 192, subpart O. In addition, operators must submit documentation relative to their integrity management program to PHMSA as applicable.

Estimated number of respondents: 721.

Estimated annual burden hours: 1,030,343 hours.

Frequency of collection: On occasion.

Issued in Washington, DC, on April 23, 2009.
John A. Gale,
Director of Regulations, Office of Pipeline Safety.

[FR Doc. E9-9775 Filed 4-28-09; 8:45 am]

BILLING CODE 4910-60-P